DEPARTMENT OF HEALTH AND HUMAN SERVICES

National Institutes of Health

National Institute of Biomedical Imaging and Bioengineering; Amended Notice of Meeting

Notice is hereby given of a change in the meeting of the National Institute of Biomedical Imaging and Bioengineering Special Emphasis Panel, October 10-11, 2013, 03:00 p.m.-06:00 p.m., National Institutes of Health, Two Democracy Plaza, Suite 920, 6707 Democracy Boulevard, Bethesda, MD 20892, which was published in the Federal Register on July 18, 2013, 78 FR 42970.

The meeting notice is amended to change the date from October 10-11, 2013, to November 26, 2013 at 10:00 a.m. to 06:00 p.m. The meeting is closed to the public.

Dated: October 25, 2013.
David Clary,
Program Analyst, Office of Federal Advisory Committee Policy.

[FR Doc. 2013-25674 Filed 10-29-13; 8:45 am]

BILLING CODE 4140-01-P